DEPARTMENT OF ENERGY

Federal Energy Regulatory Commission

[Docket Nos. RP00-254-000 and RP00-254-001]

Dauphin Island Gathering Partners; Notice of Tariff Filing and Stipulation and Agreement

April 27, 2000.

Take notice that on April 24, 2000, Dauphin Island Gathering Partners (Dauphin) tendered for filing as part of its FERC Gas Tariff, First Revised Volume No. 1, the following tariff sheets, in Docket No. RP00-254-000, with an effective date of May 1, 2000:

First Revised Sheet No. 6

First Revised Sheet No. 8

First Revised Sheet No. 178

First Revised Sheet No. 179

Dauphin and the Sponsoring Parties also tender for filing a Stipulation and Agreement (Settlement) in Docket No. RP00-254-001.

Dauphin states that First Revised Sheet No. 6 and First Revised Sheet No. 8 are being filed in compliance with the requirements of Section 3.01 of the Settlement, and reflect an effective decrease of approximately 14 percent in Dauphin's DI and MP First Transportation Service rates. Dauphin further states that First Revised Sheet No. 178 and First Revised Sheet No. 179 and being filed in compliance with the requirement of Section 1.02 of the Settlement and reflect the Settling Parties' agreement that Dauphin adopt a more customer-friendly cash out provision.

Dauphin states that the offer of settlement reflects a decrease of approximately 14 percent in Dauphin's Firm Transportation Service rates for Rate Schedules FT-1, FT-2, FT-3 and IT-1(MP) and FT-1, FT-2 and IT-1(DI) and also adopts a more customer-friendly cash out provision.

Dauphin states that copies of the filing are being served on all participants listed on the service list in this proceeding and on all persons who are required by the Commission's regulations to be served with the application initiating these proceedings.

Dauphin has requested that the comment period on the Settlement in Docket No. RP00-254-001 be shortened to provide for Initial Comments to be filed on May 4, 2000 and Reply Comments due on May 8, 2000. Dauphin also requests motions to intervene and protests to the tariff filing in Docket No. RP00-254-000 be due on May 4, 2000.

Any person desiring to be heard or to protest the filing in Docket Nos. RP00-254-000 and RP00-254-001 should file a motion to intervene or a protest with the Federal Energy Regulatory Commission, 888 First Street, NE, Washington, D.C. 20426, in accordance with Sections 385.214 or 385.211 of the Commission's Rules and Regulations. All such motions or protests must be filed on or before May 4, 2000. Protests will be considered by the Commission in determining the appropriate action to be taken, but will not serve to make Protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-10992 Filed 5-2-00; 8:45 am]

BILLING CODE 6717-01-M